DEPARTMENT OF COMMERCE

National Oceanic and Atmospheric Administration

RIN 0648-XA640

Pacific Halibut Fishery; Guideline Harvest Levels for the Guided Sport Fishery for Pacific Halibut in International Pacific Halibut Commission Regulatory Areas 2C and 3A

AGENCY: National Marine Fisheries Service (NMFS), National Oceanic and Atmospheric Administration (NOAA), Commerce.

ACTION: Notice of guideline harvest level.

SUMMARY: NMFS provides notice of the 2011 Pacific halibut guideline harvest levels (GHLs) for the guided sport fishery in International Pacific Halibut Commission (IPHC) Regulatory Areas 2C (Southeast Alaska) and 3A (Central Gulf of Alaska). This notice is necessary to meet the regulatory requirement to publish notice announcing the GHLs and to inform the public about the 2011 GHLs for the guided sport fishery for halibut. The GHLs are benchmark harvest levels for participants in the guided sport fishery. The 2011 GHLs remain the same as the 2010 GHLs; the Area 2C GHL is 788,000 lbs (357.4 mt); and the Area 3A GHL is 3,650,000 lbs (1,655.6 mt).

DATES: The GHLs are effective February 1, 2011, through December 31, 2011. This period is specified by IPHC as the sport fishing season in all waters in and off Alaska.

FOR FURTHER INFORMATION CONTACT: Gabrielle Aberle, (907) 586-7228.

SUPPLEMENTARY INFORMATION:

Background

In 2003, NMFS implemented a final rule (68 FR 47256, August 8, 2003) to establish GHLs for Pacific halibut (Hippoglossus stenolepis) harvested by the guided sport fishery in IPHC Areas 2C and 3A. Regulations implementing the GHLs have been amended twice. In 2008, the GHL table was corrected at 50 CFR 300.65(c)(1) (73 FR 30504, May 28, 2008). In 2009, regulatory provisions were amended for NMFS' annual publication of the GHL notice and to clarify NMFS' authority to take action at any time to limit the guided sport angler catch to the GHL (74 FR 21194, May 6, 2009).

This notice is consistent with § 300.65(c) and announces the 2011 GHLs for the guided sport fishery for Pacific halibut in IPHC Areas 2C and 3A. Regulations at § 300.65(c)(1) specify the GHLs based on the total constant exploitation yield (CEY) that is established annually by the IPHC. The total CEY for 2011 is 5,390,000 lbs (2,444.9 mt) in Area 2C, and 23,520,000 lbs (10,668.5 mt) in Area 3A. The corresponding GHLs are 788,000 lbs (357.4 mt) in Area 2C, and 3,650,000 lbs (1,655.6 mt) in Area 3A. The GHLs in Areas 2C and 3A did not change from the 2010 level. NMFS may take action at any time to limit the guided sport halibut harvest to as close to the GHL as practicable (50 CFR 300.65(c)(3)).

NMFS published a final rule implementing the charter halibut limited access program for the guided sport halibut fishery in Areas 2C and 3A on January 5, 2010 (75 FR 554). As of February 1, 2011, this program limits the number of charter vessels that may participate in the guided sport halibut fishery in these areas. On July 22, 2011, NMFS published proposed regulations that would implement a catch sharing plan to allocate an annual halibut catch limit, established by the IPHC, between the guided sport and commercial fisheries in Areas 2C and 3A (76 FR 44156). If approved by the Secretary of Commerce, this new allocation program would not be effective before 2012.

Authority: 16 U.S.C. 773 et seq.

Dated: August 30, 2011.
Emily H. Menashes,
Acting Director, Office of Sustainable Fisheries, National Marine Fisheries Service.

[FR Doc. 2011-22585 Filed 9-1-11; 8:45 am]

BILLING CODE 3510-22-P